ENVIRONMENTAL PROTECTION AGENCY

[FRL-7138-9]

Agency Information Collection Activities: Submission for OMB Review; Comment Request; Recordkeeping and Periodic Reporting of the Production Import, Export, Recycling, Destruction, Transhipment and Feedstock Use of Ozone-Depleting Substances

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Recordkeeping and Periodic Reporting of the Production Import, Export, Recycling, Destruction, Transhipment and Feedstock Use of Ozone-Depleting Substances; OMB Control Number 2060-0170, expiration date January 31, 2002. The ICR describes the nature of the information collection and its expected burden and cost; where appropriate, it includes the actual data collection instrument.

DATES: Comments must be submitted on or before March 11, 2002.

ADDRESSES: Send comments, referencing EPA ICR No. 1432.21 and OMB Control No. 2060-0170, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at Auby.susan@epamail.epa.gov, or download off the Internet at http://www.epa.gov/icr and refer to EPA ICR No. 1432.21. For technical questions about the ICR contact Suzanne Bratis at EPA by phone at (202) 564-3515.

SUPPLEMENTARY INFORMATION: Title: Recordkeeping and Periodic Reporting of the Production Import, Export, Recycling, Destruction, Transhipment and Feedstock Use of Ozone-Depleting Substances (OMB Control No. 2060-0170; EPA ICR No.1432.21) expiring, January 31, 2002. This is a request for extension of a currently approved collection.

Abstract: The information required satisfies statutory mandates for reporting and monitoring under section 603 of Title VI of CAA and will be used to generate reports to Congress as mandated under section 603(d) of title VI. The previously approved revisions to the reporting requirements changed the regulations so companies may produce and import for special exempted uses of methyl bromide for quarantine and pre-shipment applications during the interim period when production and consumption is capped at 50% of the 1991 baseline level. In order to monitor each company's production, import, export, destruction, and transformation, the reporting system continues to require information which can be used to check industry compliance with the stratospheric ozone protection regulations. Compliance during the reduction steps for methyl bromide mean that companies can produce and import 50% of 1991 baseline levels, except for the specific exemption created by this action for quarantine and pre-shipment applications.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on November 2, 2001 (66 FR 55658); no public comments were received.

Burden Statement: The burden hours shown below represent the hours for the information collection request (ICR). The ICR provides a detailed explanation of this estimate, which is only briefly summarized in this notice. The annual public burden for collection of additional information associated with the reporting is estimated to average 865 hours. This estimate accounts for all responses provided by all effected entities per year. The following is a summary of the estimates taken from the ICR:

Respondents/Affected Entities: Import and export of Ozone-depleting substances.

Estimated Total Number of Potential respondents: 1617.

Frequency of Response: Quarterly.

Estimated Total Annual Hour Burden: 7,357.

Estimated Total Annualized Capital, O&M Costs Burden: 0.

Send comments on the Agency's need for this information, the accuracy of the provided burden estimates, and any suggested methods for minimizing respondent burden, including through the use of automated collection techniques to the addresses listed above. Please refer to EPA ICR No. 1432.21 and OMB Control No. 2060-0170 in any correspondence.

Dated: January 31, 2002.
Oscar Morales,
Director, Collection Strategies Division.

[FR Doc. 02-2980 Filed 2-6-02; 8:45 am]

BILLING CODE 6560-50-P